DEPARTMENT OF THE TREASURY

Internal Revenue Service

26 CFR Part 1

[REG-152524-02]

RIN-1545-BB38

Guidance Under Section 1502; Amendment of Waiver of Loss Carryovers From Separate Return Limitation Years; Hearing Cancellation

AGENCY: Internal Revenue Service (IRS), Treasury.

ACTION: Cancellation of notice of public hearing on proposed rulemaking.

SUMMARY: This document cancels a public hearing on proposed regulations under section 1502 of the Internal Revenue Code that permit the amendment of certain elections to waive the loss carryovers of an acquired subsidiary.

DATES: The public hearing originally scheduled for August 6, 2003, at 10 a.m., is cancelled.

FOR FURTHER INFORMATION CONTACT: Sonya M. Cruse of the Regulations Unit, Associate Chief Counsel (Procedure and Administration), at (202) 622-4693 (not a toll-free number).

SUPPLEMENTARY INFORMATION: A notice of proposed rulemaking and notice of public hearing that appeared in the Federal Register on Wednesday, May 7, 2003, (68 FR 24404), announced that a public hearing was scheduled for August 6, 2003 at 10 a.m., in room 6718, Internal Revenue Service Building, 1111 Constitution Avenue, NW., Washington, DC. The subject of the public hearing is proposed regulations under section 1502 of the Internal Revenue Code.

The public comment period for these regulations expired on July 16, 2003. The notice of proposed rulemaking and notice of public hearing, instructed those interested in testifying at the public hearing to submit a request to speak and an outline of the topics to be addressed. As of Friday, July 25, 2003, no one has requested to speak. Therefore, the public hearing scheduled for August 6, 2003 is cancelled.

LaNita Van Dyke,
Acting Chief, Regulations Unit, Associate Chief Counsel, (Procedure and Administration).

[FR Doc. 03-19365 Filed 7-29-03; 8:45 am]

BILLING CODE 4830-01-P